DEPARTMENT OF VETERANS AFFAIRS

Privacy Act of 1974; System of Records

AGENCY: Department of Veterans Affairs.

ACTION: Notice to delete system of records.

SUMMARY: The Department of Veterans Affairs (VA) is deleting a system of records entitled “National Veterans Museum Donation Records—VA” (120VA047), which was established at 67 Fed. Reg. 58445, dated September 16, 2002. The system contained information on individuals making gifts and donations to VA for the National Veterans Museum. This system of records is being deleted because plans for the creation of the museum were postponed indefinitely.

A “Report of Intention to Publish a Federal Notice of Deletion of a System of Records” and a copy of the deletion of system notice have been provided to the appropriate Congressional committees and to the Office of Management and Budget (OMB), as required by 5 U.S.C. 552a(r) and guidelines issued by OMB, 65 FR 77677 (Dec. 12, 2000).

DATES: Effective Date: April 9, 2009

FOR FURTHER INFORMATION CONTACT: Peter Mulhern, Office of Financial Policy (047G), Department of Veterans Affairs, 810 Vermont Avenue, NW., Washington, DC 20420, (202) 461-6487 (this is not a toll-free number).

Approved: March 4, 2008.
John R. Gingrich,
Chief of Staff, Department of Veterans Affairs.

[FR Doc. E9-8065 Filed 4-8-09; 8:45 am]

BILLING CODE 8320-01-P